DEPARTMENT OF THE INTERIOR

National Park Service

[2275-669]

Proposed Information Collection; OMB Control Number 1024-0037

AGENCY: National Park Service, Interior.

ACTION: Notice; request for comments.

SUMMARY: We (National Park Service) will ask the Office of Management and Budget (OMB) to approve the information collection (IC) described below. As required by the Paperwork Reduction Act of 1995 and 5 CFR part 1320, Reporting and Record Keeping Requirements, and as part of our continuing efforts to reduce paperwork and respondent burden, we invite the general public and other Federal agencies to take this opportunity to comment on this information collection. This IC is scheduled to expire on April 30, 2011. We may not conduct or sponsor, and a person is not required to respond to, a collection of information unless it displays a currently valid OMB control number.

DATES: To ensure we are able to consider your comments on this IC, we must receive them by January 25, 2011.

ADDRESSES: Send comments to Daniel Odess, Acting Manager, Archeology Program, National Park Service, 1849 C Street, NW., (2275), Washington, DC 20240. Phone: 202-354-2128; Fax: 202-371-5102; or by e-mail at mailto:daniel_odess@nps.gov. You may also send comments to Robert Gordon, Information Collection Clearance Officer, National Park Service, 1201 Eye Street NW., (MS 1237), Washington, DC 20005 (mail); or robert_gordon@nps.gov (e-mail).

FOR FURTHER INFORMATION CONTACT: To request additional information about this IC, contact David Gadsby, Archeology Program, National Park Service, 1849 C Street, NW., (2275), Washington, DC 20240. Phone: 202-354-2101; Fax: 202-371-5102; or by e-mail at david_gadsby@nps.gov. You may also contact Robert Gordon by mail or e-mail (see ADDRESSES) or by telephone at 202-354-1936.

SUPPLEMENTARY INFORMATION:

I. Abstract

Section 4 of the Archeological Resources Protection Act (ARPA) of 1979 (16 U.S.C 470cc), and Section 3 of the Antiquities Act (AA) of 1906 (16 U.S.C. 432), authorize any individual or institution to apply to Federal land managing agencies to scientifically excavate or remove archeological resources from public or Indian lands. 43 CFR part 7 for ARPA, and 43 CFR part 3 for the AA, ensure that the resources are scientifically excavated or removed and deposited, along with associated records, in a suitable repository for preservation. Section 13 of ARPA (16 U.S.C. 470ll) requires that the Secretary of the Interior report annually to the Congress on archeological activities conducted pursuant to the Act. The information collected is reported periodically to Congress and is used for land management purposes. The obligation to respond is required to obtain or retain benefits.

II. Data

OMB Control Number: 1024-0037.

Title: Archeology Permits and Reports—43 CFR parts 3 and 7.

Service Form Number(s): DI-1926 (permit application)

Type of request: Extension of a currently approved information collection.

Description of Respondents: Individuals or organizations wishing to excavate or remove archeological resources from public or Indian lands.

Respondent's Obligation: Mandatory.

Frequency of Collection: On occasion.

Estimated average number of respondents: 736 per year.

Estimated average number of responses: 1472 per year (2 per respondent).

Estimated average time burden per response: 3 hours.

Estimated total annual reporting burden: 2,208 hours.

Estimated Annual Nonhour Burden Cost: Not Applicable.

III. Comments

We invite comments on:

• The practical utility of the information being gathered;

• The accuracy of the burden hour estimate;

• Ways to enhance the quality, utility, and clarity of the information to be collected; and

• Ways to minimize the burden to respondents, including use of automated information, collection techniques or other forms of information technology.

Comments you submit in response to this notice are a matter of public record. We will include or summarize each comment in our request to OMB to approve this IC. Before including your address, phone number, e-mail address, or other personal identifying information in your comment, you should be aware that your entire comment—including your personal identifying information—may be publicly available at any time. While you can ask us in your comment to withhold your personal identifying information from public review, we cannot guarantee that we will be able to do so.

Dated: November 19, 2010.
Robert Gordon,
NPS, Information Collection Clearance Officer.

[FR Doc. 2010-29700 Filed 11-24-10; 8:45 am]

BILLING CODE 4310-70-P